DEPARTMENT OF COMMERCE

Foreign-Trade Zones Board

[S-161-2022]

Foreign-Trade Zone 98—Birmingham, Alabama; Application for Subzone BLG Logistics of Alabama LLC, Northport, Alabama

An application has been submitted to the Foreign-Trade Zones (FTZ) Board by the City of Birmingham, grantee of FTZ 98, requesting subzone status for the facility of BLG Logistics of Alabama LLC, located in Northport, Alabama. The application was submitted pursuant to the provisions of the Foreign-Trade Zones Act, as amended (19 U.S.C. 81a-81u), and the regulations of the FTZ Board (15 CFR part 400). It was formally docketed on September 07, 2022.

The proposed subzone (15.5 acres) is located at 6801 Fifth Street, Northport, Alabama. No authorization for production activity has been requested at this time. The proposed subzone would be subject to the existing activation limit of FTZ 98.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is October 24, 2022. Rebuttal comments in response to material submitted during the foregoing period may be submitted during the subsequent 15-day period to November 7, 2022.

A copy of the application will be available for public inspection in the “Online FTZ Information Section” section of the FTZ Board's website, which is accessible via www.trade.gov/ftz.

For further information, contact Christopher Kemp at Christopher.Kemp@trade.gov.

Dated: September 7, 2022.
Andrew McGilvray,
Executive Secretary.

[FR Doc. 2022-19702 Filed 9-12-22; 8:45 am]

BILLING CODE 3510-DS-P